DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for March 19-20, 2002, beginning at 9 a.m. on March 19. Arrange for oral presentations by March 15.

ADDRESSES: The Boeing Corporation, 1200 Wilson Boulevard, Room 816, Arlington, VA.

FOR FURTHER INFORMATION CONTACT: Effie M. Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held March 19-20, 2002, in Washington, DC.

The agenda will include:

Tuesday, March 19

• Opening Remarks

• FAA Report

• Joint Aviation Authorities Report/Single Worldwide Certification Code

• Transport Canada Report

• Executive Committee Report

• Harmonization Management Team Report

• ARAC Tasking Priorities Discussion

• Design for Security Harmonization Working Group (HWG) Report

• Flight Guidance System HWG Report and Approval

• Loads & Dynamics HWG Report

• Human Factors HWG Report

• System Design and Analysis HWG Report

• Electrical Systems HWG Report and Aging Transport System Rulemaking Advisory Committee Update

Wednesday, March 20

• General Structures HWG Report

• Airworthiness Assurance Working Group Report

• Ice Protection HWG Report and Approval

• Extended Range with Two-Engine Aircraft (ETOPS) Tasking Update

• Written reports may be provided for the following HWGs: Electromagnetic Effects, Flight Test, Powerplant Installation, Engine, Mechanical Systems, Avionics, Seat Test, and Flight Control.

The Flight Guidance HWG plans to seek approval of a report addressing automatic pilot system. The Loads and Dynamics HWG plans to seek approval of a report that addresses fire protection of flight controls, engine mounts, and other structures. The Ice Protection HWG plans to seek approval of a concept paper discussing how the working group plans to discuss a tasking addressing certification requirements for aircraft operation in icing environments that includes supercooled large droplets.

Attendance is open to the public, but will be limited to the availability of meeting room space. Visitor badges are required to gain entrance to the Boeing building where the meeting is being held. Please confirm your attendance with the person listed in the FOR FURTHER INFORMATION CONTACT: section no later than March 14. Please provide the following information: full legal name, country of citizenship, and name of your company, industry association, or application affiliation. If you are attending as a public citizen, please indicate so.

The telephone number for participating in the teleconference will be available after March 12 by contacting the person listed in the FOR FURTHER INFORMATION CONTACT section or by going to the ARAC calendar at http://www.faa.gov/avr/arm/araccal.htm. Callers outside the Washington metropolitan area will be responsible for paying long distance charges.

The public must make arrangements by March 15 to present oral statements at the meeting. Written statements may be presented to the committee at any time by providing 25 copies to the Assistant Executive Director for Transport Airplane and Engine issues or by providing copies at the meeting. Copies of the documents to be presented to ARAC for decision or as recommendations to the FAA may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC, on February 28, 2002.
Tony F. Fazio,
Director, Office of Rulemaking.

[FR Doc. 02-5335 Filed 3-5-02; 8:45 am]

BILLING CODE 4910-13-M